DEPARTMENT OF LABOR

Employment and Training Administration

[TA-W-72,286]

Unisys Corporation, Technology Business Segment, Unisys Information Technology Division, Formerly Known as BETT, Including Employees Working Off-Site in Colorado, Minnesota, Ohio, and Wisconsin, and On-Site Leased Workers From Hexaware Technologies, Inc., Plymouth, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 29, 2010, applicable to workers of Unisys Corporation, Technology Business Segment, Unisys Information Technology Division, formerly known as BETT, including on-sit leased workers from Hexaware Technologies, Inc., Plymouth, Michigan. The notice was published in the Federal Register on May 28, 2010 (75 FR 30071).

At the request of the petitioners, the Department reviewed the certification for workers of the subject firm. The workers are engaged in activities related to the supply of corporate information technology (IT) services.

New information shows that worker separations have occurred involving employees under the control of the Plymouth, Michigan location of Unisys Corporation, Technology Business Segment, Unisys Information Technology Division, formerly known as BETT, working off-site in Colorado, Minnesota, Ohio, and Wisconsin. These employees provide various activities related to the supply of corporate information technology (IT) services.

Based on these findings, the Department is amending this certification to include employees of the Plymouth, Michigan facility of the subject firm working off-site in Colorado, Ohio, Minnesota, and Wisconsin.

The intent of the Department's certification is to include all workers of the subject firm who were adversely affected by the acquisition of corporate IT services from India.

The amended notice applicable to TA-W-72,286 is hereby issued as follows:

All workers of Unisys Corporation, Technology Business Segment, Unisys Corporation, Technology Business Segment, Unisys Information Technology Division, formerly known as BETT, including employees working off-site in Colorado, Ohio, Minnesota, and Wisconsin, and on-site leased workers from Hexaware Technologies, Inc., Plymouth, Michigan, who became totally or partially separated from employment on or after September 11, 2008 through April 29, 2012, and all workers in the group threatened with total or partial separation from employment on date of certification through two years from the date of certification, are eligible to apply for adjustment assistance under Chapter 2 of Title II of the Trade Act of 1974, as amended.

Signed in Washington, DC, this 24th day of June 2010.
Del Min Amy Chen,
Certifying Officer, Division of Trade Adjustment Assistance.

[FR Doc. 2010-16418 Filed 7-6-10; 8:45 am]

BILLING CODE 4510-FN-P